DEPARTMENT OF THE INTERIOR

Bureau of Land Management

[BLM_OR_FRN_MO4500177896]

Notice of Availability of the Draft Resource Management Plan and Environmental Impact Statement for the Cascade-Siskiyou National Monument in Oregon/Washington and California

AGENCY: Bureau of Land Management, Interior.

ACTION: Notice of availability.

SUMMARY: In compliance with the National Environmental Policy Act of 1969, as amended (NEPA), the Federal Land Policy and Management Act of 1976, as amended (FLPMA), Presidential Proclamations No. 7318 (Establishment of the Cascade-Siskiyou National Monument) (June 9, 2000) and No. 9564 (Boundary Enlargement of the Cascade-Siskiyou National Monument) (January 12, 2017), the Bureau of Land Management (BLM) has prepared a Draft Resource Management Plan (RMP) and Draft Environmental Impact Statement (EIS) for the Cascade-Siskiyou National Monument (CSNM), and by this notice is providing information announcing the opening of the comment period on the Draft RMP/EIS and the comment period on the BLM's proposed areas of critical environmental concern (ACECs).

DATES: This notice announces the opening of a 90-day comment period for the Draft RMP/EIS beginning with the date following the Environmental Protection Agency's (EPA's) publication of its Notice of Availability (NOA) of the Draft RMP/EIS in the Federal Register. The EPA usually publishes its NOAs on Fridays.

To afford the BLM the opportunity to consider comments in the Proposed RMP/Final EIS, please ensure that the BLM receives your comments prior to the close of the 90-day public comment period or 15 days after the last public meeting, whichever is later.

This notice also announces the opening of a 90-day comment period for proposed ACECs. To afford the BLM the opportunity to consider comments for proposed ACECs, please ensure that the BLM receives your comments prior to the close of the 90-day public comment period or 15 days after the last public meeting, whichever is later.

ADDRESSES: The Draft RMP/EIS is available for review on the BLM ePlanning project website at https://eplanning.blm.gov/eplanning-ui/project/2023675/510. Written comments related to the CSNM Draft RMP/EIS may be submitted by any of the following methods:

• Website: https://eplanning.blm.gov/eplanning-ui/project/2023675/510.

• Mail: ATTN: CSNM RMP Project Manager, BLM Medford District, 3040 Biddle Rd., Medford, OR 97504.

Documents pertinent to this proposal may be examined online at https://eplanning.blm.gov/eplanning-ui/project/2023675/510 and at the BLM Medford District Office, 3040 Biddle Rd., Medford, OR 97504.

FOR FURTHER INFORMATION CONTACT: Ms. Nikki Haskett, Cascade-Siskiyou National Monument RMP Project Manager; telephone (458) 246-8861, address 3040 Biddle Rd., Medford, OR 97504; email blm_csnm_rmp@blm.gov. Contact Ms. Haskett to have your name added to our mailing list. Individuals in the United States who are deaf, deafblind, hard of hearing, or have a speech disability may dial 711 (TTY, TDD, or TeleBraille) to access telecommunications relay services for contacting Ms. Haskett. Individuals outside the United States should use the relay services offered within their country to make international calls to the point-of-contact in the United States.

SUPPLEMENTARY INFORMATION: This document provides notice that the BLM Oregon/Washington and California State Directors have prepared a Draft RMP/EIS, announces the opening of the comment period on the Draft RMP/EIS, and announces the comment period on the BLM's proposed ACECs. The planning area is located in Jackson and Klamath Counties in Oregon and Siskiyou County, California, and encompasses approximately 113,500 acres of BLM-administered lands. While most of the BLM-administered lands are within the BLM Ashland and Klamath Falls Field Offices, approximately 5,000 acres are located within the BLM Redding Field Office.

In response to Proclamation No. 9564, multiple plaintiffs sued the President and BLM, claiming that the Monument expansion violated the 1937 Oregon and California Railroad and Coos Bay Wagon Road Grant Lands Act of 1937 (O&C Act). In 2017, two plaintiffs filed separate suits in the U.S. District Court for the District of Columbia. A third plaintiff filed suit in the District of Oregon. In September 2019, the District of Oregon upheld the Monument expansion, and the U.S. Court of Appeals for the Ninth Circuit affirmed the District Court in April 2023. In November 2019, the District Court for the District of Columbia found the Monument expansion violated the O&C Act by “reserving land governed by the O&C Act from sustained yield timber production” and held Proclamation No. 9564 “invalid and unenforceable as applied to land subject to the O&C Act.” The government appealed this decision to the U.S. Court of Appeals for the District of Columbia, which reversed the District Court on July 18, 2023, and upheld the Monument expansion. On March 25, 2024, the U.S. Supreme Court declined petitions for review of these cases.

Purpose and Need for the RMP

The purpose and need serve to frame the identification of issues, alternatives development, and effects analyses. Proclamation 7318 and Proclamation 9564 direct the BLM to “prepare a management plan for this monument” for the specific purposes of “protecting the objects of scientific and historic interest identified in Proclamation 7318 and in Proclamation 9564.”

The RMP's purpose (40 CFR 1502.13) is to provide a management framework, including objectives and management direction, that guides the BLM's management of the decision area to protect and restore the resources, objects, and values for which the area was designated. It also serves to protect and restore the objects of scientific and historic interest identified in Presidential Proclamations Nos. 7318 and 9564 by addressing the following:

• Protecting and restoring the diverse ecosystems that provide habitat for rare and endemic and special status wildlife and plant species.

• Protecting and restoring landscape-scale resilience for the area's critically important natural resources.

• Protecting intact habitats and undisturbed corridors that allow for animal migration and movement.

• Reducing fire risk to CSNM objects and values, as well as within the wildland urban interface.

• Managing discretionary uses to protect CSNM objects and values.

The need for the action is to revise the 2008 CSNM RMP to encompass all BLM-administered lands in the monument under one Record of Decision and RMP that is consistent with the proclamations that established and expanded the CSNM (CSNM RMP Plan Evaluation, April 2022). The BLM's current RMPs for lands in the decision area do not address all the legal mandates related to management of the congressionally designated National Conservation Lands (i.e., Soda Mountain Wilderness; the Jenny Creek and Spring Creek Wild and Scenic Rivers; the Applegate Trail, which is part of the California National Historic Trail; and the Pacific Crest National Scenic Trail) and the lands included in President Obama's enlargement of the monument boundary. In addition, some aspects of the existing RMPs covering the planning area need to be updated to be consistent with current BLM policies.

Alternatives Including the Preferred Alternative

The BLM has analyzed four alternatives in detail, including the no action alternative.

Alternative A, the no action alternative, represents current management from the 2008 Cascade-Siskiyou National Monument Approved RMP, 2016 Southwestern Oregon Approved RMP, and the 1993 Redding Approved RMP. In addition to the existing RMPs, there are several non-discretionary designations established by Congress that apply to lands in the planning area and are not reflected in the current RMPs but are part of the no action alternative.

• In March 2009, Congress designated the now 24,707-acre Soda Mountain Wilderness in the original boundary of the CSNM (Pub. L. 111-11, Section 1405).

• In 2009, Congress authorized the Secretary to accept any grazing lease that is donated by a lessee and to terminate any grazing lease acquired (Pub. L. 111-11, Section 1402(a)(1)(A)-(B)). Congress directed that the Secretary also not issue any new grazing leases on those lands and ensure a permanent end to livestock grazing on those lands (Pub. L. 111-11, Section 1402(a)(1)(C)). Additional provisions were described related to donations of portions of grazing leases and modifications to authorized levels of grazing, as well as identifying the permanent end to livestock grazing in the Agate, Emigrant Creek, and Siskiyou allotments in and near the planning area (Pub. L. 111-11, Section 1402(a)(2)-(3) and (b)).

• In March 2019, Congress designated 17.6 miles of Jenny Creek and 1.1 miles of Spring Creek as scenic rivers under the Wild and Scenic Rivers Act (WSRA) (Pub. L. 116-9). Both streams are primarily in the CSNM but also cross into the decision area for the Southwestern Oregon RMP.

Alternative B emphasizes flexibility in planning-level direction, promotes intensive, active management to protect monument resources, and maximizes the potential for an array of discretionary actions that are compatible with the protection of CSNM objects and values. Alternative B would designate both ACECs and Research Natural Areas (RNAs).

Alternative C emphasizes flexibility in planning-level direction but promotes a moderate level of active management for protection, maintenance, and restoration of CSNM resources, and sets some limitations on management actions and tools available. Alternative C utilizes ACEC designations to protect and restore relevant and important values in the CSNM.

Alternative D would rely primarily on natural ecosystem processes that would allow plant community dynamics to unfold without active intervention. Exceptions include the management of young conifer stands (plantations) that are a product of past timber harvest and thinning around legacy trees and along wildfire evacuation routes. Alternative D would not designate any ACECs or RNAs.

The BLM further considered additional alternatives but dismissed them from detailed analysis as explained in the Draft RMP/EIS. The State Directors have identified Alternative C as the preferred alternative. Alternative C was selected as the preferred alternative because it provides management decisions, including objectives and management direction determined to be most effective at resolving planning issues, protecting monument objects and values, and meeting the purpose and need.

Mitigation

The BLM will identify, analyze, and consider best management practices to mitigate the reasonably foreseeable impacts to resources and monument objects. The Draft EIS analyzes all alternatives and, in accordance with 40 CFR 1502.14(e), will include appropriate mitigation measures (best management practices) not already included in the proposed plan or alternatives. Best management practices may include measures to avoid, minimize, rectify, reduce, or eliminate reasonably foreseeable impacts over time, and may be considered at multiple scales, including the landscape scale.

ACECs

Consistent with land use planning regulations at 43 CFR 1610.7-2(b), the BLM is announcing a comment period on the ACECs proposed for designation, which will be open for 90 days. Comments may be submitted using any of the methods listed in the ADDRESSES section.

The proposed ACECs included in the preferred alternative are:

• Cottonwood Glades—approximately 115 acres. Designation proposed to protect native fish, meadows, complex springs, and fen soils. Identified special management considerations may include restricting cattle from the area and restricting motorized and non-motorized vehicular use.

• Mariposa Lily—approximately 239 acres. Designation proposed to protect rare and exemplary oak savanna with core populations of native species, such as the Bureau Sensitive Species Green's mariposa lily and Detlings microseris. Special management considerations may include restoration of native grass and forb components, removal of the invasive yellow star thistle, prescribed fire, and restrictions on vehicular activity and heavy equipment during fire suppression.

The preferred alternative does not propose to designate the following potential ACECs or RNAs:

• Buck Prairie ACEC.

• Jenny Creek RNA.

• Lost Lake RNA.

• Mariposa Preserve Wildlife Crossing ACEC.

• Moon Prairie ACEC.

• Old Baldy RNA.

• Oregon Gulch RNA.

• Priority Wildlife Connectivity Areas ACEC.

• Scotch Creek RNA.

• Tunnel Creek ACEC.

Schedule for the Decision-Making Process

The BLM will provide additional opportunities for public participation consistent with the NEPA and land use planning processes, including a 30-day public protest period and a 60-day Governor's consistency review on the Proposed RMP. The Proposed RMP/Final EIS is anticipated to be available for public protest in the Fall of 2024 with a Record of Decision and Approved RMP in January 2025.

The BLM will hold a total of four public meetings. One meeting will be held virtually, and three meetings will be conducted in-person: in Klamath Falls, Greensprings, and Medford, Oregon. The dates and locations of these meetings will be announced at least 15 days in advance through local media, social media, newspapers, and the ePlanning website (see ADDRESSES).

The BLM will continue to consult with Tribal Nations on a government-to-government basis in accordance with Executive Order 13175, BLM Manual Section 1780, and other Departmental policies. Tribal Nation concerns, including impacts on Indian trust assets and potential impacts to cultural resources, will be given due consideration.

You may submit comments on the Draft RMP/EIS in writing to the BLM at any public meetings or to the BLM using one of the methods listed in the ADDRESSES section. To be considered, comments must be received by the end of the 90-day comment period. The ePlanning website (see ADDRESSES) includes background information on the CSNM and the planning process.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, 43 CFR 1610.7-2)

Barry R. Bushue,
BLM Oregon/Washington State Director.
Gordon R. Toevs,
Acting BLM California State Director.

[FR Doc. 2024-07290 Filed 4-4-24; 8:45 am]

BILLING CODE 4331-24-P